DEPARTMENT OF THE INTERIOR

Fish and Wildlife Service

[FWS-R1-R-2014-N153; 1265-0000-10137-S3]

Kīlauea Point National Wildlife Refuge, Kaua`i County, HI; Draft Comprehensive Conservation Plan and Environmental Assessment

AGENCY: Fish and Wildlife Service, Interior.

ACTION: Notice of availability; request for comments.

SUMMARY: We, the U.S. Fish and Wildlife Service (Service), announce the availability of a draft comprehensive conservation plan and environmental assessment (Draft CCP/EA) for Kīlauea Point National Wildlife Refuge (Refuge) for public review and comment. The Draft CCP/EA describes our proposal for managing the Refuge for 15 years.

DATES: To ensure consideration, please send your written comments by March 27, 2015. We will announce upcoming public open house meetings in mailings, newspaper articles, Web site postings, and through local media announcements.

ADDRESSES: You can download the Draft CCP/EA from our Web site: www.fws.gov/refuge/Kilauea_Point/what_we_do/planning.html, or request printed or CD-ROM copies of it and submit comments and requests for more information, by any of the following methods.

Email: FW1PlanningComments@fws.gov. Include “Kīlauea Point draft CCP” in the subject line of the message.

Fax: Attn: Michael Mitchell, (808) 828-6381.

U.S. Mail: Kaua`i National Wildlife Refuge Complex, P.O. Box 1128, Kīlauea, HI 96754.

In-Person Drop-off, Viewing, or Pickup: Call (808) 828-1413 to make an appointment (necessary for viewing/pickup only) during regular business hours at the Kīlauea Point National Wildlife Refuge, 3500 Kīlauea Road, Kīlauea, HI 96754. Printed copies of the draft CCP/EA are available at local libraries; see “Public Availability of Documents” under SUPPLEMENTARY INFORMATION for library names and addresses.

FOR FURTHER INFORMATION CONTACT: Michael Mitchell, Acting Project Leader, (808) 828-1413 (phone).

SUPPLEMENTARY INFORMATION:

Introduction

With this notice, we continue the CCP process for Kīlauea Point Refuge. We started this process through a notice of intent in the Federal Register (74 FR 49399; September 28, 2009). More information about the Refuge's history, wildlife, and habitats is available in that notice.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Public Availability of Documents

In addition to methods identified in ADDRESSES, you can review printed copies of the Draft CCP/EA at the following libraries.

• Princeville Public Library, 4343 Emmalani Drive, Princeville, HI 96722.

• Līhu`e Public Library, 4344 Hardy Street, Līhu`e, HI 96766.

• Kapa`a Public Library, 4-1464 Kuhio Highway, Kapa`a, HI 96746.

• Koloa Public Library, 3451 Poipu Road, Koloa, HI 96756.

• Hanapepe Public Library, 4490 Kona Road, Hanapepe, HI 96716.

• Waimea Public Library, 9750 Kaumualii Highway, Waimea, HI 96796.

Public Availability of Comments

Before including your address, phone number, email address, or other personal identifying information in your comment, you should be aware that your entire comment—including your personal identifying information—may be made publicly available at any time. While you can ask us in your comment to withhold your personal identifying information from public review, we cannot guarantee that we will be able to do so.

Dated: August 1, 2014.
Hugh Morrison,
Acting Regional Director, Pacific Region, Portland, Oregon.

This document was received for publication by the Office of Federal Register on February 9, 2015”.

[FR Doc. 2015-02919 Filed 2-11-15; 8:45 am]

BILLING CODE 4310-55-P